FEDERAL COMMUNICATIONS COMMISSION

[FR ID 61729]

Open Commission Meeting Tuesday, December 14, 2021

December 7, 2021.

The Federal Communications Commission will hold an Open Meeting on the subjects listed below on Tuesday, December 14, 2021, which is scheduled to commence at 10:30 a.m.

Due to the current COVID-19 pandemic and related agency telework and headquarters access policies, this meeting will be in a wholly electronic format and will be open to the public on the internet via live feed from the FCC's web page at www.fcc.gov/live and on the FCC's YouTube channel.

Item No. | Bureau | Subject
1 | PUBLIC SAFETY & HOMELAND SECURITY | Title: Improving Accessibility and Clarity of Emergency Alerts (PS Docket No. 15-94).
|  | Summary: The Commission will consider a Notice of Proposed Rulemaking and a Notice of Inquiry to improve clarity and accessibility of Emergency Alert System (EAS) visual messages to the public, including for persons who are deaf or hard of hearing, and others who are unable to access the audio message.
2 | INTERNATIONAL | Title: Facilitating Satellite Broadband Competition (IB Docket No. 21-456).
|  | Summary: The Commission will consider an Order and Notice of Proposed Rulemaking that would propose revisions to the Commission's rules for spectrum sharing among low-earth orbit satellite systems. The goal of the proposed revisions is to facilitate the deployment of the new generation of non-geostationary satellite orbit, fixed-satellite service (NGSO FSS) systems, including new competitors.
3 | WIRELINE COMPETITION | Title: Promoting Fair and Open Competitive Bidding in the E-Rate Program (WC Docket No. 21-455).
|  | Summary: The Commission will consider a Notice of Proposed Rulemaking that proposes to implement a central document repository (i.e., bidding portal) through which service providers would be required to submit their bids to the E-Rate Program Administrator and seeks comment on other changes to the E-Rate competitive bidding rules.

* * * * *

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530. Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2021-26963 Filed 12-13-21; 8:45 am]

BILLING CODE 6712-01-P